SOCIAL SECURITY ADMINISTRATION

Agency Information Collection Activities: Request for Comments

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer and to the OMB Desk Officer at the following addresses:

(OMB), Attn: Desk Officer for SSA, New Executive Office Building, Room 10230, 725 17th St., NW, Washington, D.C. 20503.

(SSA), Social Security Administration, DCFAM, Attn: Frederick W. Brickenkamp, 1-A-21 Operations Bldg., 6401 Security Blvd., Baltimore, MD 21235.

The information collection listed below has been submitted to OMB for clearance. Your comments on the information collection would be most useful if received by OMB and SSA within 30 days from the date of this publication. You can obtain a copy of the OMB clearance package by calling the SSA Reports Clearance Officer on (410) 965-4145, or by writing to him at the address listed above.

Internet Retirement Insurance Benefit (IRIB) Application—0960-0618. SSA will offer its customers another way to apply for retirement insurance benefits. Currently, applicants for retirement insurance benefits complete a SSA-1, Application for Retirement Insurance Benefits, by telephone or in person with the assistance of a SSA employee. The IRIB application will enable individuals to complete the application on their own electronically over the Internet. The information that SSA collects will be used to determine entitlement to retirement insurance benefits. SSA plans to implement the IRIB application nationally later this year. The respondents are individuals who apply for retirement insurance benefits over the Internet.

Number of Respondents: 139,308.

Frequency of Response: 1.

Average Burden Per Response: 20 minutes.

Estimated Annual Burden: 46,436 hours.

Dated: August 14, 2000.
Frederick W. Brickenkamp,
SSA Reports Clearance Officer.

[FR Doc. 00-21013 Filed 8-17-00; 8:45 am]

BILLING CODE 4191-02-P